DEPARTMENT OF COMMERCE

International Trade Administration

[A-570-863]

Sixth Administrative Review of Honey From the People's Republic of China: Preliminary Results and Partial Rescission of Antidumping Duty Administrative Review

AGENCY: Import Administration, International Trade Administration, Department of Commerce.

SUMMARY: The Department of Commerce (“Department”) is conducting an administrative review of the antidumping duty order on honey from the People's Republic of China (“PRC”), covering the period of review (“POR”) of December 1, 2006, through November 30, 2007. As discussed below, we preliminarily determine that certain respondents in this review made sales in the United States at prices below normal value (“NV”). If these preliminary results are adopted in our final results of review, we will instruct U.S. Customs and Border Protection (“CBP”) to assess antidumping duties on entries of subject merchandise during the POR for which importer-specific assessment rates are above de minimis.

DATES: Effective Date: November 7, 2008.

FOR FURTHER INFORMATION CONTACT: Paul Walker, AD/CVD Operations, Office 9, Import Administration, International Trade Administration, U.S. Department of Commerce, 14th Street and Constitution Avenue, NW., Washington, DC 20230; telephone (202) 482-0413.

SUPPLEMENTARY INFORMATION:

Background

On November 30, 2006, we received requests from both Petitioners ¹ and certain PRC companies to conduct administrative reviews for a total of 32 companies.² On January 28, 2008, the Department initiated an administrative review of these 32 producers/exporters of subject merchandise from the PRC. See Initiation of Antidumping and Countervailing Duty Administrative Reviews and Request for Revocation in Part, 73 FR 4829 (January 28, 2008) (“Initiation”).

¹ The petitioners are the members of the American Honey Producers Association and the Sioux Honey Association (hereinafter referred to as “Petitioners”).

² Alfred L. Wolff (Beijing) Co., Ltd., Anhui Honghui Foodstuff (Group) Co., Ltd., Anhui Native Produce Imp & Exp Corp. (“Anhui Native”), Cheng Du Wai Yuan Bee Products Co., Ltd. (“Cheng Du Wai”), Chengdu Stone Dynasty Art Stone, Dongtai Peak Honey Industry Co., Ltd. (“Dongtai Peak”), Eurasia Bee's Products Co., Ltd., Golden Tadco Int'l., Hangzhou Golden Harvest Health Industry Co., Ltd., Hanseatische Nahrungsmittel Fabrik R Import-Export GMBH, Haoliluck Co., Ltd., Hubei Yusun Co., Ltd., Inner Mongolia Altin Bee-Keeping, Inner Mongolia Youth Trade Development Co., Ltd. (“IMY”), Jiangsu Kanghong Natural Healthfoods Co., Ltd., Jiangsu Light Industry Products Imp & Exp (Group) Corp., Mgl Yung Sheng Honey Co., Ltd. (also DBA Fresh Honey Co., Ltd.), Nefelon Limited Company, OEI International Inc., Qingdao Aolan Trade Co., Ltd., QHD Sanhai Honey Co., Ltd., Qinhuangdao Municipal Dafeng Industrial Co., Ltd., Shanghai Bloom International Trading Co., Ltd., Shanghai Foreign Trade Co., Ltd., Shanghai Hui Ai Mal Tose Co., Ltd., Shanghai Taiside Trading Co., Ltd., Sichuan-Dujiangyan Dubao Bee Industrial Co., Ltd., Tianjin Eulia Honey Co., Ltd., Wuhan Bee Healthy Co., Ltd., Wuhan Shino-Food Trade Co., Ltd., Wuhu Qinshi Tangye Co., Ltd. (“Tangye”) and Xinjiang Jinhui Food Co., Ltd.

Respondent Selection

On April 2, 2008, in accordance with section 777A(c)(2) of the Tariff Act of 1930, as amended (“Act”), the Department selected Cheng Du Wai and Anhui Native as mandatory respondents in this review, since they were the two largest exporters by volume during the POR, based on CBP data of U.S. imports under Harmonized Tariff Schedule of the United States (“HTSUS”) subheadings 0409.00.00, 1702.90.90 and 2106.90.99. See Memorandum to James Doyle, Director, Office 9, from Toni Dach, International Trade Analyst, Office 9, “Antidumping Administrative Review of Honey from the People's Republic of China: Respondent Selection Memorandum,” dated April 2, 2008. On April 11, 2008, the Department issued antidumping duty questionnaires to Cheng Du Wai and Anhui Native, and provided a courtesy copy of the questionnaire to Dongtai Peak.

On May 5, 2008, the Department issued a second questionnaire to Cheng Du Wai because it did not respond to the Department's initial antidumping duty questionnaire. Cheng Du Wai did not respond to the second questionnaire.

Between April 30, 2008, and May 16, 2008, Dongtai Peak submitted voluntary responses to the Department's questionnaire. Between May 9, 2008 and October 4, 2008, Anhui Native responded to the Department's questionnaire and subsequent supplemental questionnaires. On May 28, 2008, the Department placed on the record a “no shipments” letter from Tangye.

Because Cheng Du Wai did not respond to the Department's initial or second questionnaire, on June 10, 2008, the Department selected IMY, the third largest exporter, according to CBP data, as an additional mandatory respondent. See Memorandum to James Doyle, Director, Office 9, from Paul Walker, Senior Case Analyst, Office 9, “Honey from the People's Republic of China: Selection of Additional Mandatory Respondent,” dated June 10, 2008. Additionally, on June 10, 2008, the Department sent IMY an initial antidumping duty questionnaire. On July 3, 2008, the Department issued a second questionnaire to IMY because it did not respond to the Department's initial antidumping duty questionnaire. IMY did not respond to the second questionnaire.

Separate Rates

On April 23, 2008, the Department sent separate rate applications and separate rate certifications to the 29 companies (including IMY) which did not receive an antidumping duty questionnaire.³ No company submitted a separate rate application or certification. On May 15, 2008, the Department issued a second separate rate application and certification to the 29 companies that did not respond to the Department's initial separate rate application and certification. No company responded to this second opportunity to submit a separate rate application or certification.

³ We note that the Department's initial antidumping duty questionnaire contained a request for separate rate information. Thus, because Anhui Native, Cheng Du Wai and Dongtai Peak had already received the Department's initial antidumping duty questionnaire, we did not send these companies a separate rate application and separate rate certification. Moreover, because IMY had not yet been selected as a mandatory respondent as of April 23, 2008, it received a separate rate application and certification.

Rescission of Reviews

On June 10, 2008, Petitioners withdrew their request for review for 21 companies. On June 25, 2008, in accordance with section 351.213(d)(1) of the Department's regulations, we rescinded the administrative review with respect to these 21 companies. See Sixth Administrative Review of Honey From the People's Republic of China: Notice of Partial Rescission of Antidumping Duty Administrative Review, 73 FR 36040 (June 25, 2008). Therefore, this review covers 11 producers/exporters ⁴ of the subject merchandise and the PRC-wide entity.

⁴ Alfred L. Wolff (Beijing) Co., Ltd., Anhui Native, Cheng Du Wai, Dongtai Peak, Haoliluck Co., Ltd., Hubei Yusun Co., Ltd., IMY, Mgl. Yung Sheng Honey Co., Ltd. (also DBA Fresh Honey Co., Ltd.), Nefelon Limited Company, Qinhuangdao Municipal Dafeng Industrial Co., Ltd. and Tangye. Of these 11 producer/exporters, Anhui Native, Cheng Du Wai and IMY were selected as mandatory respondents, as discussed above.

Surrogate Country and Surrogate Values

On June 7, 2007, the Department sent interested parties a letter requesting comments on the surrogate country and information pertaining to valuing factors of production (“FOPs”). On October 16, 2008, Petitioners submitted surrogate value comments from various Indian sources. No other interested party submitted comments on the surrogate country and information pertaining to valuing FOPs.

Case Schedule

On August 11, 2008, in accordance with section 751(a)(3)(A) of the Act, we extended the time period for issuing the preliminary results by 75 days, until November 15, 2008.⁵ See Sixth Administrative Review of Honey from the People's Republic of China: Extension of Time Limit for the Preliminary Results, 73 FR 46588 (August 11, 2008). On October 10, 2008, the Department informed interested parties that it intends to issue the preliminary results of the instant review no later than October 31, 2008.

⁵ We note that because November 15, 2008, falls on a weekend, the actual date is the first business day following the weekend, November 17, 2008.

Partial Recission of Review

Dongtai Peak

As discussed in the SUPPLEMENTARY INFORMATIONsection above, between April 30, 2008, and May 16, 2008, Dongtai Peak submitted voluntary responses to the Department's antidumping duty questionnaire. In Dongtai Peak's questionnaire responses, Dongtai Peak requested that the Department calculate an individual weighted-average dumping margin for Dongtai Peak as a voluntary respondent, pursuant to section 782(a) of the Act, arguing that the Department has the resources and time to review Dongtai Peak as a voluntary respondent due to Cheng Du Wai's lack of participation in this proceeding.

For these preliminary results, the Department has rescinded the review with respect to Dongtai Peak. While Dongtai Peak is correct that the Department can choose to review a voluntary respondent, 19 CFR 351.213(d)(3) provides that the Department may rescind an administrative review, “with respect to a particular exporter or producer, if the Secretary concludes that, during the period covered by the review, there were no entries, exports, or sales of the subject merchandise, as the case may be.” We examined CBP entry data for Dongtai Peak, and Dongtai Peak's voluntary submissions, and are satisfied that the record indicates that there were no U.S. entries of subject merchandise from Dongtai Peak during the POR. Accordingly, following the Department's practice, we are preliminarily rescinding this review with respect to Dongtai Peak. See, e.g., Certain Frozen Fish Fillets From the Socialist Republic of Vietnam: Notice of Preliminary Results and Partial Rescission of the Third Antidumping Duty Administrative Review, 72 FR 53527, 53530 (September 19, 2007), unchanged in Certain Frozen Fish Fillets From the Socialist Republic of Vietnam: Final Results of Antidumping Duty Administrative Review and Partial Rescission, 73 FR 15479, 15480 (March 24, 2008) (collectively, “Fish Fillets”).

Tangye

In addition, for these preliminary results, the Department has rescinded the review with respect to Tangye. As discussed in the SUPPLEMENTARY INFORMATION section above, on May 28, 2008, the Department placed on the record a no shipments letter from Tangye. We examined CBP entry data for Tangye and are satisfied that the record indicates that there were no U.S. entries of subject merchandise from Tangye during the POR. Accordingly, following the Department's practice, we are preliminarily rescinding this review with respect to Tangye. See, e.g., Fish Fillets.

Scope of the Order

The products covered by this order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to this order is currently classifiable under subheadings 0409.00.00, 1702.90.90 and 2106.90.99 of the HTSUS. Although the HTSUS subheadings are provided for convenience and customs purposes, the Department's written description of the merchandise under order is dispositive.

Facts Available

Section 776(a)(2) of the Act, provides that, if an interested party: (A) Withholds information that has been requested by the Department; (B) fails to provide such information in a timely manner or in the form or manner requested subject to sections 782(c)(1) and (e) of the Act; (C) significantly impedes a proceeding under the antidumping statute; or (D) provides such information but the information cannot be verified, the Department shall, subject to subsection 782(d) of the Act, use facts otherwise available in reaching the applicable determination.

Section 782(c)(1) of the Act provides that if an interested party “promptly after receiving a request from {the Department} for information, notifies {the Department} that such party is unable to submit the information requested in the requested form and manner, together with a full explanation and suggested alternative forms in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e) of the Act, disregard all or part of the original and subsequent responses, as appropriate.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability in providing the information and meeting the requirements established by the Department; and (5) the information can be used without undue difficulties.

Furthermore, section 776(b) of the Act states that if the Department “finds that an interested party has failed to cooperate by not acting to the best of its ability to comply with a request for information from the administering authority or the Commission, the administering authority or the Commission * * *, in reaching the applicable determination under this title, may use an inference that is adverse to the interests of that party in selecting from among the facts otherwise available.” See also Statement of Administrative Action accompanying the Uruguay Round Agreements Act, H.R. Rep. No. 103-316 at 870 (1994). Adverse inferences are appropriate “to ensure that the party does not obtain a more favorable result by failing to cooperate than if it had cooperated fully.” Id. An adverse inference may include reliance on information derived from the petition, the final determination in the investigation, any previous review, or any other information placed on the record. See section 776(b) of the Act.

Anhui Native

In its questionnaire responses, Anhui Native stated that it incurred Customs duties and antidumping duties. It is the Department's practice to exclude antidumping duties from the margin calculation. See, e.g., Certain Frozen Fish Fillets from the Socialist Republic of Vietnam: Final Results and Partial Rescission of New Shipper Reviews, 73 FR 36840 (June 30, 2008). Thus, Anhui Native should have only reported non-antidumping Customs duties in its section C database. However, a careful review of the CBP form 7501s submitted by Anhui Native shows that Anhui Native reported the antidumping duty in its section C database.

For these preliminary results, in accordance with section 776(a)(2)(B) of the Act and 782(c)(1) of the Act, we have determined that the use of neutral facts available is appropriate for Anhui Native's Customs duties. As neutral facts available, we are applying the average of Anhui Native's reported Customs duties, as found in its CBP form 7501s, and applying this average to the applicable deduction from Anhui Native's reported U.S. price. However, the Department intends to provide Anhui Native an opportunity to submit the correct data after the preliminary results, in accordance with section 782(d) of the Act. In addition, because Anhui Native's Customs duties and U.S. price are proprietary, see the Anhui Native Analysis Memo for further details. See Memorandum to the File, through Scot Fullerton, Program Manager, Office 9, from Paul Walker, Senior Analyst, Office 9, “Administrative Review of Honey from the People's Republic of China: Company Analysis Memorandum for Anhui Native Produce Import & Export Corp.,” dated concurrently with this notice (“Anhui Native Analysis Memo”).

Cheng Du Wai and IMY

As discussed in the “Supplementary Information” section above, Cheng Du Wai and IMY did not respond to the initial antidumping duty questionnaires issued by the Department on April 11, 2008, and June 10, 2008, respectively. Additionally, the Department issued letters to Cheng Du Wai and IMY on May 5, 2008, and July 3, 2008, respectively, and confirmed delivery for both letters. In both letters, the Department noted that responses to its questionnaires were past due and requested that each company notify the Department as to whether it intended to participate further in this administrative review. Cheng Du Wai and IMY did not respond to either of these letters. Therefore, the Department finds that Cheng Du Wai and IMY did not cooperate to the best of their abilities, and their non-responsiveness necessitates the use of facts available, pursuant to sections 776(a)(2)(A), (B) and (C) of the Act.

Based upon Cheng Du Wai's and IMY's failure to submit responses to the Department's questionnaires and follow-up letters, the Department finds that Cheng Du Wai and IMY withheld requested information, failed to provide the information in a timely manner and in the form requested, and significantly impeded this proceeding, pursuant to sections 776(a)(2)(A), (B) and (C) of the Act. Further, because Cheng Du Wai and IMY failed to demonstrate that they qualify for separate rate status, we consider both entities part of the PRC-wide entity. Thus, we find that the PRC-wide entity, including Cheng Du Wai and IMY, withheld requested information, failed to provide information in a timely manner and in the form requested, and significantly impeded this proceeding. Therefore, the Department must rely on the facts otherwise available in order to determine a margin for the PRC-wide entity, pursuant to section 776(a)(2)(A), (B) and (C) of the Act. See Non-Malleable Cast Iron Pipe Fittings from the People's Republic of China: Final Results of Antidumping Duty Administrative Review, 71 FR 69546 (December 1, 2006) and accompanying Issues and Decision Memorandum at Comment 1.

PRC-Wide Entity

Because Cheng Du Wai and IMY, which are part of the PRC-wide entity, failed to cooperate to the best of their ability in providing the requested information, as discussed above, we find it appropriate, in accordance with sections 776(a)(2)(A), (B) and (C), as well as section 776(b), of the Act, to assign total adverse facts available (“AFA”) to the PRC-wide entity. See Certain Frozen Warmwater Shrimp from the Socialist Republic of Vietnam: Preliminary Results of the First Administrative Review and New Shipper Review, 72 FR 10689, 10692 (March 9, 2007) (decision to apply total AFA to the NME-wide entity unchanged in Certain Frozen Warmwater Shrimp From the Socialist Republic of Vietnam: Final Results of the First Antidumping Duty Administrative Review and First New Shipper Review, 72 FR 52052 (September 12, 2007)). By doing so, we ensure that the companies that are part of the PRC-wide entity will not obtain a more favorable result by failing to cooperate than had they cooperated fully in this review.

As discussed above, section 776(b) of the Act authorizes the Department to use, as AFA, information derived from the petition, the final determination in the less-than-fair-value (“LTFV”) investigation, any previous administrative review, or any other information placed on the record. In selecting an AFA rate, the Department's practice has been to assign non-cooperative respondents the highest margin determined for any party in the LTFV investigation or in any administrative review. See Certain Steel Nails from the People's Republic of China: Final Determination of Sales at Less Than Fair Value and Partial Affirmative Determination of Critical Circumstances, 73 FR 33977 (June 16, 2008). As AFA, we are assigning the PRC-wide entity, which includes Cheng Du Wai and IMY, the highest rate from any segment of this proceeding, which in this case is $2.65 per kilogram, as established in this administrative review. See Anhui Native Analysis Memo. Corroboration of this rate is not required because this rate is based on, and calculated from, information submitted by Anhui Native in the course of this administrative review, i.e., it is not secondary information. See 19 CFR 351.308(c) and (d) and section 776(c) of the Act.

NME Country Status

In every case conducted by the Department involving the PRC, the PRC has been treated as an NME country. In accordance with section 771(18)(C)(i) of the Act, any determination that a foreign country is an NME country shall remain in effect until revoked by the administering authority. See Brake Rotors From the People's Republic of China: Final Results and Partial Rescission of the 2004/2005 Administrative Review and Notice of Rescission of 2004/2005 New Shipper Review, 71 FR 66304 (November 14, 2006). None of the parties to this proceeding has contested such treatment. Accordingly, we calculated NV in accordance with section 773(c) of the Act, which applies to NME countries.

Separate Rate Determination

A designation as an NME remains in effect until it is revoked by the Department. See section 771(18)(C) of the Act. Accordingly, there is a rebuttable presumption that all companies within the PRC are subject to government control and, thus, should be assessed a single antidumping duty rate. See Notice of Final Determination of Sales at Less Than Fair Value, and Affirmative Critical Circumstances, In Part: Certain Lined Paper Products From the People's Republic of China, 71 FR 53079 (September 8, 2006); Final Determination of Sales at Less Than Fair Value and Final Partial Affirmative Determination of Critical Circumstances: Diamond Sawblades and Parts Thereof from the People's Republic of China, 71 FR 29303 (May 22, 2006).

It is the Department's standard policy to assign all exporters of the merchandise subject to review in NME countries a single rate unless an exporter can affirmatively demonstrate an absence of government control, both in law (de jure) and in fact (de facto), with respect to exports. To establish whether a company is sufficiently independent to be entitled to a separate, company-specific rate, the Department analyzes each exporting entity in an NME country under the test established in Notice of Final Determination of Sales at Less than Fair Value: Sparklers from the People's Republic of China, 56 FR 20588 (May 6, 1991) (“Sparklers”), as amplified by Notice of Final Determination of Sales at Less Than Fair Value: Silicon Carbide from the People's Republic of China, 59 FR 22585 (May 2, 1994) (“Silicon Carbide”).

Absence of De Jure Control

The Department considers the following de jure criteria in determining whether an individual company may be granted a separate rate: (1) An absence of restrictive stipulations associated with an individual exporter's business and export licenses; (2) any legislative enactments decentralizing control of companies; and (3) any other formal measures by the government decentralizing control of companies. See Sparklers, 56 FR at 20589.

Throughout the course of this administrative review, only Anhui Native has placed sufficient evidence on the record that demonstrate an absence of de jure control. See Anhui Native's submission of May 9, 2008 at 2-8 and Exhibit 2; see also Anhui Native's submission of July 3, 2008 at 2-7 and Exhibit 2. Additionally, Anhui Native has placed on the record a number of documents to demonstrate an absence of de jure control including the “Foreign Trade Law of the People's Republic of China” and the “Company Law of the People's Republic of China.” The Department has analyzed such PRC laws and has found that they establish an absence of de jure control. See Preliminary Results of New Shipper Review: Certain Preserved Mushrooms From the People's Republic of China, 66 FR 30695, 30696 (June 7, 2001). We have no information in this proceeding that would cause us to reconsider this determination. Thus, we find that the evidence on the record supports a preliminary finding of an absence of de jure government control based on: (1) An absence of restrictive stipulations associated with the exporter's business license; (2) the legal authority on the record decentralizing control over the respondent, as demonstrated by the PRC laws placed on the record of this review; and (3) other formal measures by the government decentralizing control of companies.

Absence of De Facto Control

As stated in previous cases, there is some evidence that certain enactments of the PRC central government have not been implemented uniformly among different sectors and/or jurisdictions in the PRC. See Notice of Final Determination of Sales at Less Than Fair Value: Certain Preserved Mushrooms from the People's Republic of China, 63 FR 72255 (December 31, 1998). Therefore, the Department has determined that an analysis of de facto control is critical in determining whether respondents are, in fact, subject to a degree of government control which would preclude the Department from assigning separate rates. The Department typically considers four factors in evaluating whether each respondent is subject to de facto government control of its export functions: (1) Whether the exporter sets its own export prices independent of the government and without the approval of a government authority; (2) whether the respondent has the authority to negotiate and sign contracts, and other agreements; (3) whether the respondent has autonomy from the government in making decisions regarding the selection of its management; and (4) whether the respondent retains the proceeds of its export sales and makes independent decisions regarding disposition of profits or financing of losses. See Silicon Carbide, 59 FR at 22587; Sparklers, 56 FR at 20589.

The Department conducted a separate rates analysis for Anhui Native, which has asserted the following: (1) There is no government participation in setting export prices; (2) sales managers and authorized employees have the authority to create binding sales contracts; (3) it does not have to notify any government authorities of management selections; (4) there are no restrictions on the use of export revenue; and (5) it is responsible for financing its own losses. The questionnaire responses of Anhui Native do not suggest that pricing is coordinated among exporters. During our analysis of the information on the record, we found no information indicating the existence of government control of export activities. See Anhui Native's submission of May 9, 2008, at 2-8, and Exhibit 2; see also Anhui Native's submission of July 3, 2008, at 2-7 and Exhibit 2. Consequently, we preliminarily determine that Anhui Native has met the criteria for the application of a separate rate.

As discussed above, the Department initiated this administrative review with respect to 32 companies, and thereafter rescinded the review on 21 of those 32 companies. In addition, we are preliminarily rescinding the review with respect to Dongtai Peak and Tangye due to the lack of shipments during the POR. Thus, in addition to Anhui Native, Cheng Du Wai and IMY, six additional companies remain subject to this review. The remaining six companies ⁶ (collectively referred to as “the six companies”) were twice issued separate rate applications and certifications to which they did not respond.

⁶ Alfred L. Wolff (Beijing) Co., Ltd., Haoliluck Co., Ltd., Hubei Yusun Co., Ltd., Mgl. Yung Sheng Honey Co., Ltd. (also DBA Fresh Honey Co., Ltd.), Nefelon Limited Company and Qinhuangdao Municipal Dafeng Industrial Co., Ltd.

Because these six companies did not provide separate rate information, the Department finds that they are not entitled to a separate rate. Therefore, these six companies will be considered part of the PRC-wide entity, subject to the PRC-wide rate.

Surrogate Country

When the Department investigates imports from an NME country, section 773(c)(1) of the Act directs it to base NV, in most circumstances, on the NME producer's FOPs, valued in a surrogate market economy country or countries considered to be appropriate by the Department. In accordance with section 773(c)(4) of the Act, in valuing the FOPs, the Department shall utilize, to the extent possible, the prices or costs of FOPs in one or more market economy countries that are at a level of economic development comparable to that of the NME country and significant producers of comparable merchandise. The sources of the surrogate factor values are discussed under the “Normal Value” section below and in the Memorandum to the File through James Doyle, Director, Office 9, through Scot Fullerton, Program Manager, Office 9, from Paul Walker, Senior Case Analyst, Office 9, “Sixth Administrative Review of Honey from the People's Republic of China: Surrogate Factor Valuations for the Preliminary Results,” dated concurrently with this notice (“Surrogate Values Memo”).

As discussed in the “NME Country Status” section, the Department considers the PRC to be an NME country. The Department determined that India, Indonesia, the Philippines, Colombia and Thailand are countries comparable to the PRC in terms of economic development. See Memorandum from Ron Lorentzen, Director, Office of Policy, to Scot Fullerton, Office 9, Import Administration, “Antidumping Administrative Review of Honey from the People's Republic of China: Request for a List of Surrogate Countries,” dated (March 25, 2008). Moreover, it is the Department's practice to select an appropriate surrogate country based on the availability and reliability of data from these countries. See Department Policy Bulletin No. 04.1: Non-Market Economy Surrogate Country Selection Process, dated March 1, 2004. The Department finds India to be a reliable source for surrogate values because India is at a comparable level of economic development pursuant to 773(c)(4) of the Act, is a significant producer of comparable merchandise, and has publicly available and reliable data. Furthermore, the Department notes that India has been the primary surrogate country in past segments, and the only surrogate value data submitted on the record are from Indian sources. Given the above facts, the Department has selected India as the primary surrogate country for this review.

U.S. Price

In accordance with section 772(a) of the Act, we calculated the export price ⁷ (“EP”) for sales to the United States for Anhui Native. We calculated EP based on the price to unaffiliated purchasers in the United States. In accordance with section 772(c) of the Act, as appropriate, we deducted from the starting price to unaffiliated purchasers foreign inland freight, foreign brokerage and handling, customs duties, domestic brokerage and handling and other movement expenses incurred. For the services provided by an NME vendor or paid for using an NME currency we based the deduction of these movement charges on surrogate values. See Surrogate Values Memo for details regarding the surrogate values for movement expenses. For expenses provided by a market economy vendor and paid in U.S. dollars, so we used the actual cost per kilogram of the freight. See Anhui Native Analysis Memo.

⁷ Though Anhui Native's Section C database lists each of its sales as constructed export price, we note that the first U.S. customer is unaffiliated with Anhui Native.

Normal Value

Methodology

Section 773(c)(1) of the Act provides that the Department shall determine the NV using an FOP methodology if the merchandise is exported from an NME and the information does not permit the calculation of NV using home-market prices, third-country prices, or constructed value under section 773(a) of the Act. The Department bases NV on the FOP because the presence of government controls on various aspects of NMEs renders price comparisons and the calculation of production costs invalid under the Department's normal methodologies.

Factor Valuations

In accordance with section 773(c) of the Act, we calculated NV based on FOP data reported by Anhui Native for the POR. To calculate NV, we multiplied the reported per-unit factor-consumption rates by publicly available surrogate values (except as discussed below).

In selecting the surrogate values, we considered the quality, specificity, and contemporaneity of the data. As appropriate, we adjusted input prices by including freight costs to make them delivered prices. In accordance with Sigma, we added to each Indian import surrogate value, a surrogate freight cost calculated from the shorter of the reported distance from the domestic supplier to the factory or the distance from the nearest seaport to the factory, where appropriate. See Sigma Corp. v. United States, 117 F. 3d 1401, 1407-1408 (Fed. Cir. 1997) (“Sigma”).

For these preliminary results, in accordance with the Department's practice, we used data from the Indian Import Statistics in order to calculate surrogate values for most of Anhui Native's material inputs. In selecting the best available information for valuing FOPs in accordance with section 773(c)(1) of the Act, the Department's practice is to select, to the extent practicable, surrogate values which are non-export average values, most contemporaneous with the POR, product-specific, and tax-exclusive. See, e.g., Notice of Preliminary Determination of Sales at Less Than Fair Value, Negative Preliminary Determination of Critical Circumstances and Postponement of Final Determination: Certain Frozen and Canned Warmwater Shrimp From the Socialist Republic of Vietnam, 69 FR 42672, 42682 (July 16, 2004), unchanged in Final Determination of Sales at Less Than Fair Value: Certain Frozen and Canned Warmwater Shrimp From the Socialist Republic of Vietnam, 69 FR 71005 (December 8, 2004). The record shows that the Indian import statistics represent import data that are contemporaneous with the POR, product-specific, and tax-exclusive. Where we could not obtain publicly available information contemporaneous to the POR with which to value FOPs, we adjusted the surrogate values, where appropriate, using the Indian Wholesale Price Index (“WPI”) as published in OECD Stat by the Organization for Economic Development and Cooperation.

To value unfiltered/unprocessed honey (“raw honey”), the Department used the raw honey price ⁸ published by the Regional Centre for Development Cooperation (“RCDC”) for these preliminary results. The Department finds that the RCDC raw honey price is reliable, as the organization collects its own raw and processed honey price information directly from various Indian honey markets. The RCDC is a non-governmental organization, which works to strengthen the community-based management of natural resources in Orissa and surrounding states, and maintains updated market prices of various non-timber forest products for various major markets in India. However, because the raw honey price data published by RCDC are dated after the POR, we deflated the price to be contemporaneous with the POR using WPI.

⁸ The honey price published by RCDC can be found at http://www.banajata.org/m/a1.htm.

We valued electricity using price data for small, medium, and large industries, as published by the Central Electricity Authority of the Government of India in its publication titled Electricity Tariff & Duty and Average Rates of Electricity Supply in India, dated July 2006. These electricity rates represent actual country-wide, publicly-available information on tax-exclusive electricity rates charged to industries in India. Since the rates are dated before the POR, we inflated the values to be contemporaneous with the POR using WPI. See Surrogate Values Memo.

Consistent with 19 CFR 351.408(c)(3), we valued direct, indirect, and packing labor, using the most recently calculated regression-based wage rate, which relies on 2005 data. This wage rate can currently be found on the Department's Web site on Import Administration's home page, Import Library, Expected Wages of Selected NME Countries, revised in May 2008, ia.ita.doc.gov/wages/05wages/05wages-051608.html. The source of these wage-rate data on the Import Administration's web site is the Yearbook of Labour Statistics 2002, ILO (Geneva: 2002), Chapter 5B: Wages in Manufacturing. Because this regression-based wage rate does not separate the labor rates into different skill levels or types of labor, we have applied the same wage rate to all skill levels and types of labor reported by Anhui Native.

To value water, the Department used data from the Maharashtra Industrial Development Corporation (http://www.midindia.orgwww.midcindia.org) since they include a wide range of industrial water tariffs. This source provides 386 industrial water rates within the Maharashtra province from June 2003: 193 of the water rates were for the “inside industrial areas” usage category and 193 of the water rates were for the “outside industrial areas” usage category. Because the value was not contemporaneous with the POR, we adjusted the rate for inflation.

We valued truck freight expenses using a per-unit average rate calculated from data on the following Web site: http://www.infobanc.com/logistics/logtruck.htm. The logistics section of this website contains inland freight truck rates between many large Indian cities. Since this value is dated after the POR, we deflated the values to be contemporaneous with the POR using WPI. See Surrogate Values Memo.

We valued brokerage and handling using a simple average of the brokerage and handling costs that were reported in public submissions that were filed in three antidumping duty cases. See Surrogate Values Memo. Specifically, we averaged the public brokerage and handling expenses reported by (a) Agro Dutch Industries Ltd. in the antidumping duty administrative review of certain preserved mushrooms from India, (b) Kejirwal Paper Ltd. in the LTFV investigation of certain lined paper products from India, and (c) Essar Steel in the antidumping duty administrative review of hot-rolled carbon steel flat products from India. See Certain Preserved Mushrooms From India: Final Results of Antidumping Duty Administrative Review, 71 FR 10646 (March 2, 2006); Notice of Preliminary Determination of Sales at Less Than Fair Value, Postponement of Final Determination, and Affirmative Preliminary Determination of Critical Circumstances in Part: Certain Lined Paper Products From India, 71 FR 19706 (April 17, 2006) (unchanged in Notice of Final Determination of Sales at Less Than Fair Value, and Negative Determination of Critical Circumstances: Certain Lined Paper Products from India, 71 FR 45012 (August 8, 2006)), and Certain Hot-Rolled Carbon Steel Flat Products From India: Preliminary Results of Antidumping Duty Administrative Review, 71 FR 2018, 2021 (January 12, 2006) (unchanged in Certain Hot-Rolled Carbon Steel Flat Products From India: Final Results of Antidumping Administrative Review, 71 FR 40694 (July 18, 2006)). The Department derived the average per-unit amount from each source and adjusted each average rate for inflation. Finally, the Department averaged the average per-unit amounts to derive an overall average rate for the POR.⁹

⁹ These data have been placed on the record of this case and can be found in attachments to the Factors Memo.

To value factory overhead, sales, general and administrative expenses, and profit; we relied upon publicly available information in the 2006-2007 annual report of Mahabaleshwar Honey Production Cooperative Society Ltd., an Indian producer of subject merchandise. See Surrogate Values Memo.

We made currency conversions into U.S. dollars, in accordance with section 773A(a) of the Act, based on the exchange rates in effect on the dates of the U.S. sales as certified by the Federal Reserve Bank.

Preliminary Results of the Review

The Department has determined that the following preliminary dumping margins exist for the period December 1, 2006 through November 30, 2007:

Honey From the PRC
Manufacturer/exporter | Margin (per kilogram)
Anhui Native | $2.65
PRC-wide Entity ¹⁰ | $2.65

The Department will disclose calculations performed for these preliminary results to the parties within five days of the date of publication of this notice in accordance with 19 CFR 351.224(b).

¹⁰ The PRC-wide entity includes Alfred L. Wolff (Beijing) Co., Ltd., Cheng Du Wai, Haoliluck Co., Ltd., Hubei Yusun Co., Ltd., IMY, Mgl. Yung Sheng Honey Co., Ltd. (also DBA Fresh Honey Co., Ltd.), Nefelon Limited Company and Qinhuangdao Municipal Dafeng Industrial Co., Ltd.

In accordance with 19 CFR 351.301(c)(3)(ii), for the final results of this administrative review, interested parties may submit publicly available information to value FOPs within 20 days after the date of publication of these preliminary results. Interested parties must provide the Department with supporting documentation for the publicly available information to value each FOP. Additionally, in accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information recently placed on the record. The Department generally cannot accept the submission of additional, previously absent-from-the-record alternative surrogate value information pursuant to 19 CFR 351.301(c)(1). See Glycine from the People's Republic of China: Final Results of Antidumping Duty Administrative Review and Final Rescission, in Part, 72 FR 58809 (October 17, 2007) and accompanying Issues and Decision Memorandum at Comment 2.

Interested parties may submit case briefs and/or written comments no later than 30 days after the date of publication of these preliminary results of review. See 19 CFR 351.309(c)(ii). Rebuttal briefs and rebuttals to written comments, limited to issues raised in such briefs or comments, may be filed no later than 37 days after the date of publication of these preliminary results of review. See 19 CFR 351.309(d). The Department urges interested parties to provide an executive summary of each argument contained within the case briefs and rebuttal briefs.

Any interested party may request a hearing within 30 days of publication of these preliminary results. See 19 CFR 351.310(c). Requests should contain the following information: (1) The party's name, address, and telephone number; (2) the number of participants; and (3) a list of the issues to be discussed. Oral presentations will be limited to issues raised in the briefs. If we receive a request for a hearing, we plan to hold the hearing seven days after the deadline for submission of the rebuttal briefs at the U.S. Department of Commerce, 14th Street and Constitution Avenue, NW., Washington, DC 20230.

The Department will issue the final results of this administrative review, which will include the results of its analysis of issues raised in any such comments, within 120 days of publication of these preliminary results, pursuant to section 751(a)(3)(A) of the Act.

Assessment Rates

Consistent with the Fifth AR Final Results, we will direct CBP to assess importer-specific assessment rates based on the resulting per-unit (i.e., per kilogram) amount on each entry of the subject merchandise during the POR. See Honey from the People's Republic of China: Final Results and Rescission, In Part, of Aligned Antidumping Duty Administrative Review and New Shipper Review, 73 FR 42321 (July 21, 2008) (“Fifth AR Final Results”). The Department intends to issue assessment instructions to CBP 15 days after the date of publication of the final results of review. If these preliminary results are adopted in our final results of review, the Department shall determine, and CBP shall assess, antidumping duties on all appropriate entries. For assessment purposes, we calculated importer-specific assessment rates for honey from the PRC. Specifically, we divided the total duties for each importer by the total quantity of subject merchandise sold to that importer during the POR to calculate a per-unit assessment amount. We will direct CBP to assess importer-specific assessment rates based on the resulting per-unit (i.e., per kilogram) amount on each entry of the subject merchandise during the POR if any importer-specific assessment rate calculated in the final results of this review is above de minimis.

For Dongtai Peak and Tangye, companies for which this review is preliminarily rescinded, antidumping duties shall be assessed at rates equal to the cash deposit of estimated antidumping duties required at the time of entry, or withdrawal from warehouse, for consumption, in accordance with 19 CFR 351.212(c)(2).

Cash Deposit Requirements

The following cash-deposit requirements will be effective upon publication of these final results for shipments of the subject merchandise entered, or withdrawn from warehouse, for consumption on or after the publication date of these final results, as provided by section 751(a)(2)(C) of the Act: (1) For subject merchandise exported by Anhui Native the cash deposit rate will be $2.65 per kilogram; (2) for all other PRC exporters of subject merchandise which have not been found to be entitled to a separate rate, and thus, are a part of the PRC-wide entity, the cash-deposit rate will be the PRC-wide rate of $2.65 per-kilogram; and (3) for all non-PRC exporters of subject merchandise, the cash-deposit rate will be the rate applicable to the PRC supplier of that exporter. These deposit requirements shall remain in effect until further notice.

Notification of Interested Parties

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review, and this notice are in accordance with sections 751(a)(1) and 777(i) of the Act, and 19 CFR 351.213 and 351.221(b)(4).

Dated: October 31, 2008.
David M. Spooner,
Assistant Secretary for Import Administration.

[FR Doc. E8-26616 Filed 11-6-08; 8:45 am]

BILLING CODE 3510-DS-P